DEPARTMENT OF THE INTERIOR

Bureau of Indian Affairs

[245A2100DD/AAKC001030/A0A501010.999900]

Land Acquisitions; Mesa Grande Band of Diegueno Mission Indians of the Mesa Grande Reservation, California

AGENCY: Bureau of Indian Affairs, Interior.

ACTION: Notice.

SUMMARY: The Assistant Secretary—Indian Affairs made a final agency determination to acquire 480.46 acres, more or less, of land in trust for the Mesa Grande Band of Diegueno Mission Indians of the Mesa Grande Reservation, California.

DATES: This final determination was made on August 19, 2024.

FOR FURTHER INFORMATION CONTACT: Amy Dutschke, Regional Director, Bureau of Indian Affairs, Pacific Region, 2800 Cottage Way, Room W-2820, Sacramento, CA 95825, comments@bia.gov, (916) 978-6000.

SUPPLEMENTARY INFORMATION: On the date listed in the DATES section of this notice, the Assistant Secretary—Indian Affairs made a final agency determination to accept land in trust for the Mesa Grande Band of Diegueno Mission Indians of the Mesa Grande Reservation, California under the authority of section 5 of the Indian Reorganization Act of June 18, 1934 (48 Stat. 984). The land consists of 480.46 acres, more or less, is situated in the unincorporated area of the County of San Diego, State of California. The legal description is as follows:

Legal Land Description

PARCEL A-1: APN 286-061-02 (PORTION)

THE NORTHWEST QUARTER OF THE SOUTHWEST QUARTER OF SECTION 1, TOWNSHIP 13 SOUTH, RANGE 2 EAST, SAN BERNARDINO MERIDIAN, IN THE COUNTY OF SAN DIEGO, STATE OF CALIFORNIA, ACCORDING TO THE OFFICIAL PLAT THEREOF.

PARCEL A-2: APN 286-061-02 (PORTION)

THE NORTHEAST QUARTER OF THE SOUTHWEST QUARTER OF SECTION 1, TOWNSHIP 13 SOUTH, RANGE 2 EAST, SAN BERNARDINO MERIDIAN, IN THE COUNTY OF SAN DIEGO, STATE OF CALIFORNIA, ACCORDING TO THE OFFICIAL PLAT THEREOF.

PARCEL A-3: APN 286-061-02 (PORTION)

THAT PORTION OF THE SOUTHEAST QUARTER OF THE SOUTHWEST QUARTER OF SECTION 1, TOWNSHIP 13 SOUTH, RANGE 2 EAST, SAN BERNARDINO MERIDIAN, IN THE COUNTY OF SAN DIEGO, STATE OF CALIFORNIA, ACCORDING TO THE OFFICIAL PLAT THEREOF, LYING NORTHERLY OF THE CENTER LINE OF COUNTY HIGHWAY COMMISSION, JULIAN ROAD 3-B, ACCORDING TO THE OFFICIAL PLAT THEREOF ON FILE IN THE OFFICE OF THE COUNTY SURVEYOR OF SAN DIEGO COUNTY.

EXCEPTING FROM PARCEL 3 ABOVE THOSE PORTIONS LYING WITHIN THE LAND DESCRIBED IN PARCELS 1 AND 2 IN DEED TO THE STATE OF CALIFORNIA RECORDED NOVEMBER 13, 1974 AS FILE NO. 74-299706.

PARCEL A-4: APN 286-061-02 (PORTION)

THE SOUTHEAST QUARTER OF THE NORTHWEST QUARTER OF SECTION 1, TOWNSHIP 13 SOUTH, RANGE 2 EAST, SAN BERNARDINO MERIDIAN, IN THE COUNTY OF SAN DIEGO, STATE OF CALIFORNIA, ACCORDING TO THE OFFICIAL PLAT THEREOF.

PARCEL A-5: APN 286-061-03

THE SOUTHWEST QUARTER OF THE SOUTHWEST QUARTER OF SECTION 1, TOWNSHIP 13 SOUTH, RANGE 2 EAST, SAN BERNARDINO MERIDIAN, IN THE COUNTY OF SAN DIEGO, STATE OF CALIFORNIA, ACCORDING TO THE OFFICIAL PLAT THEREOF.

EXCEPTING THEREFROM THAT PORTION LYING SOUTHERLY OF THE NORTHERLY LINE OF THE MAIN PUBLIC HIGHWAY ROUTE NO. 7, DIVISION NO. 1, AS CONVEYED TO SAID COUNTY OF SAN DIEGO BY DEED RECORDED SEPTEMBER 20, 1912 AS FILE NO. 24403 IN BOOK 505, PAGE 131 OF DEEDS. ALSO EXCEPTING THEREFROM THAT PORTION DESCRIBED IN DEED TO THE STATE OF CALIFORNIA RECORDED FEBRUARY 6, 1976 AS FILE NO. 76-035912 OF OFFICIAL RECORDS, BEING MORE PARTICULARLY DESCRIBED AS FOLLOWS:

BEGINNING AT THE SOUTHWEST CORNER OF SAID SECTION 1; THENCE -1- NORTH 1°44′30″ EAST, 737.95 FEET TO THE CENTER LINE OF MAIN PUBLIC HIGHWAY, ROUTE NO. 7, DIVISION NO. 1, AS CONVEYED TO SAID COUNTY OF SAN DIEGO BY DEED RECORDED SEPTEMBER 20, 1912 IN BOOK 505, PAGE 131 OF DEEDS WITH THE RECORDER OF SAID SAN DIEGO COUNTY; THENCE -2- ALONG SAID CENTER LINE SOUTH 81°02′00″ EAST, 192.44 FEET; THENCE -3- CONTINUING ALONG SAID CENTER LINE SOUTH 72°48′00″ EAST, 195.02 FEET TO AN ANGLE POINT TO THE RIGHT HAVING A DEFLECTION OF 10°32′00″ AND SHOWN AS ENGINEER'S STATION 111 PLUS 01.08 ON MAP OF SAID ROUTE NO. 7, DIVISION NO. 1 ON FILE WITH THE SURVEYOR OF SAID SAN DIEGO COUNTY AND THE TRUE POINT OF BEGINNING; THENCE -4- LEAVING SAID CENTER LINE NORTH 21°28′ EAST, 25.07 FEET; THENCE -5- SOUTH 74°21′07″ EAST, 103.05 FEET TO THE BEGINNING OF A NON-TANGENT CURVE TO THE LEFT HAVING A RADIUS OF 955.00 FEET; THENCE -6- FROM A TANGENT THAT BEARS SOUTH 63°50′52″ EAST, ALONG THE ARC OF SAID CURVE THROUGH AN ANGLE OF 13°36′13″, A DISTANCE OF 226.74 FEET; THENCE -7- NON-TANGENT TO SAID CURVE NORTH 68°34′24″ EAST 55.79 FEET; THENCE -8- SOUTH 82°27′55″ EAST, 69.36 FEET; THENCE -9- SOUTH 68°12′52″ EAST, 48.97 FEET; THENCE -10- NORTH 86°26′19″ EAST, 337.55 FEET; THENCE -11- NORTH 80°12′42″ EAST, 131.37 FEET TO THE EASTERLY LINE OF SAID SOUTHWEST QUARTER OF THE SOUTHWEST QUARTER OF SECTION 1; THENCE -12- ALONG SAID EASTERLY LINE SOUTH 01°23′07″ WEST, 91.74 FEET; THENCE -13- LEAVING SAID EASTERLY LINE SOUTH 80°12′42″ WEST, 223.45 FEET TO THE SOUTHERLY RIGHT OF WAY LINE OF SAID MAIN PUBLIC HIGHWAY; THENCE -14- ALONG SAID SOUTHERLY RIGHT OF WAY LINE SOUTH 66°10′ WEST, 154.47 FEET TO THE BEGINNING OF A TANGENT CURVE TO THE RIGHT HAVING A RADIUS OF 224.97 FEET; THENCE -15-ALONG THE ARC OF SAID CURVE THROUGH A CENTRAL ANGLE OF 47°34′00″ A DISTANCE OF 186.77 FEET; THENCE -16- TANGENT TO SAID CURVE NORTH 64°16′00″ WEST, 144.24 FEET; THENCE -17- LEAVING SAID SOUTHERLY LINE ON A NONTANGENT CURVE TO THE RIGHT HAVING A RADIUS OF 1045.00 FEET, FROM A TANGENT THAT BEARS NORTH 76°02′26″ WEST, THROUGH A CENTRAL ANGLE OF 5°45′04″ A DISTANCE OF 104.89 FEET; THENCE -18- NON-TANGENT TO SAID CURVE NORTH 59°36′24″ WEST, 214.96 FEET; THENCE -19- NORTH 21°28′ EAST, 25.07 FEET TO THE TRUE POINT OF BEGINNING.

PARCEL B-1: APN 286-060-46

PARCEL 2, COUNTY OF SAN DIEGO, STATE OF CALIFORNIA, AS SHOWN AT PAGE 1207 OF PARCEL MAPS FILED IN THE OFFICE OF THE COUNTY RECORDER OF SAN DIEGO COUNTY DECEMBER 24, 1972. EXCEPTING THEREFROM THOSE PORTIONS OF THE EAST HALF OF SECTION 2 IN TOWNSHIP 13 SOUTH, RANGE 2 EAST, SAN BERNARDINO MERIDIAN, ACCORDING TO THE OFFICIAL PLAT THEREOF, IN THE COUNTY OF SAN DIEGO, STATE OF CALIFORNIA, DESCRIBED AS FOLLOWS: BEGINNING AT A POINT ON THE EASTERLY LINE OF THAT CERTAIN 8.97 ACRE PARCEL OF LAND SHOWN ON RECORD OF SURVEY NO. 3776 ON FILE IN THE OFFICE OF THE RECORDER OF SAID COUNTY FROM WHICH ITS NORTHEASTERLY CORNER LIES NORTH 02°19′24″ EAST 49.38 FEET; THENCE LEAVING SAID EASTERLY LINE SOUTH 89°28′37″ EAST, 179.38 FEET TO A ¾ INCH IRON PIPE; THENCE SOUTH 00°19′22″ WEST, 207.42 FEET TO A ¾ INCH IRON PIPE; THENCE NORTH 89°30′46″ WEST 186.63 FEET TO THE SAID EASTERLY LINE; THENCE NORTH 02°19′24″ EAST, 207.64 FEET TO THE POINT OF BEGINNING.

EXCEPTING THEREFROM THAT PORTION THEREOF DESCRIBED AS FOLLOWS: (APN 280-060-16)

THE LAND REFERRED TO HEREIN BELOW IS SITUATED IN THE UNINCORPORATED AREA OF SAN DIEGO COUNTY, STATE OF CALIFORNIA, AND IS DESCRIBED AS FOLLOWS:

THAT PORTION OF THE WESTERLY HALF OF THE NORTHWEST QUARTER OF SECTION 1, TOWNSHIP 13 SOUTH, RANGE 2 EAST, SAN BERNARDINO MERIDIAN, MORE PARTICULARLY DESCRIBED AS FOLLOWS:

BEGINNING AT THE NORTHEAST CORNER OF THE NORTHWEST QUARTER OF THE NORTHWEST QUARTER OF SECTION 1, TOWNSHIP 13 SOUTH, RANGE 2 EAST, SAN BERNARDINO MERIDIAN, SAID POINT BEING A 2 INCH IRON PIPE WITH DISC STAMPED “LS 2412” AS SHOWN ON RECORD OF SURVEY MAP NO. 23794 FILED IN THE OFFICE OF COUNTY RECORDER OF SAN DIEGO COUNTY, FEBRUARY 4, 2021;

THENCE SOUTHERLY, ALONG THE EASTERLY LINE OF THE WESTERLY HALF OF THE NORTHWEST QUARTER OF SAID SECTION 1, SOUTH 01°15′25″ WEST A DISTANCE OF 2,650.58 FEET TO THE SOUTHEAST CORNER OF THE WESTERLY HALF OF THE NORTHWEST QUARTER OF SAID SECTION 1; THENCE WESTERLY, ALONG THE SOUTHERLY LINE OF THE NORTHWEST QUARTER OF SAID SECTION 1, NORTH 89°36′34″ WEST A DISTANCE OF 1,328.04 FEET TO THE SOUTHWEST CORNER OF THE NORTHWEST QUARTER OF SAID SECTION 1; THENCE NORTHERLY, ALONG THE WESTERLY LINE OF SAID SECTION 1, NORTH 01°44′54″ EAST A DISTANCE OF 2,580.61 FEET TO A POINT ON THE ARC OF A NON-TANGENT CURVE CONCAVE SOUTHEASTERLY, HAVING A RADIUS OF 170 FEET, A RADIAL BEARING THROUGH SAID POINT BEARS NORTH 22°50′13″ WEST; THENCE ORTHEASTERLY, ALONG THE ARC OF SAID CURVE THROUGH A CENTRAL ANGLE OF 22°53′33″ A DISTANCE OF 67.92 FEET; THENCE SOUTH 89°56′41″ EAST A DISTANCE OF 227.23 FEET TO THE BEGINNING OF A TANGENT CURVE CONCAVE NORTHWESTERLY, HAVING A RADIUS OF 230 FEET; THENCE NORTHEASTERLY ALONG THE ARC OF SAID CURVE THROUGH A CENTRAL ANGLE OF 41°38′26″ A DISTANCE OF 167.16 FEET TO THE NORTHERLY LINE OF SAID SECTION 1, A RADIAL BEARING THROUGH SAID POINT BEARS SOUTH 41°35′07″ EAST; THENCE EASTERLY, ALONG THE NORTHERLY LINE OF SAID SECTION 1, SOUTH 89°21′45″ EAST A DISTANCE OF 861.22 FEET TO THE POINT OF BEGINNING.

DESCRIBED LAND CONTAINS 3,468,866 SQUARE FEET/79.634 ACRES (MORE OR LESS)

PARCEL C-1: APN 286-060-28 & 246-160-19

THAT PORTION OF SECTION 35, TOWNSHIP 12 SOUTH, RANGE 2 EAST, SAN BERNARDINO MERIDIAN, ACCORDING TO THE OFFICIAL PLAT THEREOF, AND THOSE PORTIONS OF SECTIONS 1 AND 2, TOWNSHIP 13, SOUTH, RANGE 2 EAST, SAN BERNARDINO MERIDIAN, ACCORDING TO THE OFFICIAL PLAT THEREOF, ALL BEING IN THE COUNTY OF SAN DIEGO, STATE OF CALIFORNIA, DESCRIBED AS FOLLOWS:

COMMENCING AT ENGINEER'S STATION 500+56.06 B.C. ON THE CENTER LINE OF COUNTY HIGHWAY COMMISSION JULIAN ROAD 3-B (ALSO KNOWN AS STATE HIGHWAY 78) ACCORDING TO PLAT THEREOF ON FILE IN THE OFFICE OF THE COUNTY ENGINEER OF SAN DIEGO COUNTY; THENCE ALONG SAID CENTER LINE SOUTH 63°47′17″ WEST (RECORD—SOUTH 63°26′00″ WEST), 13.88 FEET TO THE MOST SOUTHERLY CORNER OF THAT PARCEL OF LAND SHOWN AS “8.97 ACRE GROSS” ON RECORD OF SURVEY MAP NO. 3776 ON FILE IN THE OFFICE OF THE COUNTY RECORDER OF SAN DIEGO COUNTY, SAID POINT BEING THE TRUE POINT OF BEGINNING; THENCE ALONG THE WESTERLY AND NORTHERLY LINES OF SAID “8.97 ACRE GROSS” PARCEL, NORTH 26°12′43″ WEST (RECORD—NORTH 26°34′00″ WEST), 30.00 FEET; NORTH 06°39′27″ WEST, 950.31 FEET (RECORD—NORTH 06°59′50″ WEST, 950.56 FEET); AND, SOUTH 89°25′46″ EAST, 507.83 FEET (RECORD—SOUTH 89°45′20″ EAST, 508.00 FEET) TO THE NORTHEASTERLY CORNER OF SAID “8.97 ACRE GROSS” PARCEL BEING ALSO A POINT ON THE WEST LINE OF THE LAND DESCRIBED IN DEED TO JOHN C. MABEE, A MARRIED MAN, RECORDED DECEMBER 29, 1972 AS FILE NO. 347578; THENCE ALONG THE WESTERLY, NORTHWESTERLY AND NORTHERLY BOUNDARIES OF SAID MABEE'S LAND AS FOLLOWS: NORTH 02°06′01″ EAST, 2536.82 FEET TO A POINT OF INTERSECTION WITH A 230.00 FOOT RADIUS CURVE CONCAVE NORTHERLY, A RADIAL THROUGH SAID POINT BEARS NORTH 01°31′25″ EAST, SAID POINT ALSO BEING THE NORTHWEST CORNER OF THE SOUTHEAST QUARTER OF THE NORTHEAST QUARTER OF SAID SECTION 2; NORTHEASTERLY ALONG THE ARC OF SAID CURVE THROUGH A CENTRAL ANGLE OF 43°31′32″ A DISTANCE OF 174.72 FEET; NORTH 48°00′00″ EAST, 846.60 FEET TO A POINT OF TANGENCY OF A 230.00 FOOT RADIUS CURVE CONCAVE NORTHWESTERLY; NORTHEASTERLY ALONG THE ARC OF SAID CURVE THROUGH A CENTRAL ANGLE OF 07°30′00″ A DISTANCE OF 30.11 FEET; NORTH 40°30′00″ EAST, 736.89 FEET TO A POINT OF TANGENCY OF A 170.00 FOOT RADIUS CURVE CONCAVE SOUTHEASTERLY; NORTHEASTERLY ALONG THE ARC OF SAID CURVE THROUGH A CENTRAL ANGLE OF 49°32′19″ A DISTANCE OF 146.98 FEET; SOUTH 89°57′41″ EAST, 227.23 FEET TO A POINT OF TANGENCY OF A 230.00 FOOT RADIUS CURVE CONCAVE NORTHERLY; AND NORTHEASTERLY ALONG THE ARC OF SAID CURVE THROUGH A CENTRAL ANGLE OF 41°37′16″ A DISTANCE OF 167.08 FEET TO A POINT ON THE NORTHERLY LINE OF THE NORTHWEST QUARTER OF SAID SECTION 1; THENCE ALONG THE NORTHERLY LINE OF THE NORTHWEST QUARTER OF SAID SECTION 1, NORTH 89°22′38″ WEST, 190.00 FEET TO THE SOUTHEAST CORNER OF SAID SECTION 35 AND NORTH 89°57′41″ WEST, 253.91 FEET TO THE NORTHEAST CORNER OF SAID SECTION 2; THENCE ALONG THE NORTHERLY LINE OF SAID SECTION 2, NORTH 89°42′32″ WEST, 1064.93 FEET TO THE SOUTHEAST CORNER OF THE WEST HALF OF THE SOUTHEAST QUARTER OF SAID SECTION 35; THENCE ALONG THE EASTERLY LINE OF SAID WEST HALF OF THE SOUTHEAST QUARTER OF SECTION 35, NORTH 00°48′27″ EAST, 2620.67 FEET TO THE SOUTHEAST CORNER OF THE SOUTHWEST QUARTER OF THE NORTHEAST QUARTER OF SAID SECTION 35; THENCE ALONG THE EASTERLY LINE OF SAID SOUTHWEST QUARTER OF THE NORTHEAST QUARTER OF SECTION 35, NORTH 00°49′27″ EAST 600.00 FEET; THENCE WEST 650.00 FEET; THENCE SOUTH 60°10′39″ WEST, 298.49 FEET TO A POINT ON THE ARC OF A 1530.00 FOOT RADIUS CURVE CONCAVE WESTERLY A RADIAL LINE OF WHICH BEARS SOUTH 89°24′14″ EAST TO SAID POINT; THENCE SOUTHERLY ALONG THE ARC OF SAID CURVE THROUGH A CENTRAL ANGLE OF 09°21′43″ A DISTANCE OF 250.00 FEET; THENCE SOUTH 09°57′29″ WEST, 1608.66 FEET TO THE BEGINNING OF A TANGENT 230.00 FOOT RADIUS CURVE CONCAVE NORTHWESTERLY; THENCE SOUTHWESTERLY ALONG THE ARC OF SAID CURVE THROUGH A CENTRAL ANGLE OF 53°48′06″ A DISTANCE OF 215.97 FEET TO THE BEGINNING OF A REVERSE 30.00 FOOT RADIUS CURVE CONCAVE EASTERLY A RADIAL LINE OF WHICH BEARS SOUTH 26°14′25″ EAST FROM SAID POINT; THENCE SOUTHERLY ALONG THE ARC OF SAID CURVE THROUGH A CENTRAL ANGLE OF 85°57′08″ A DISTANCE OF 45.00 FEET TO THE BEGINNING OF A REVERSE 980.00 FOOT RADIUS CURVE CONCAVE WESTERLY A RADIAL LINE OF WHICH BEARS SOUTH 67°48′27″ WEST FROM SAID POINT; THENCE SOUTHERLY ALONG THE ARC OF SAID CURVE THROUGH A CENTRAL ANGLE OF 38°33′05″ A DISTANCE OF 659.39 FEET; THENCE SOUTH 16°21′32″ WEST, 161.87 FEET TO THE WESTERLY LINE OF THE SOUTHEAST QUARTER OF SAID SECTION 35, BEING A POINT HEREIN DESIGNATED AS POINT “A”; THENCE ALONG SAID WESTERLY LINE SOUTH 00°34′33″ WEST, 225.86 FEET TO THE NORTHERLY LINE OF SAID SECTION 2; THENCE ALONG SAID NORTHERLY LINE NORTH 89°42′32″ WEST, 63.93 FEET TO THE NORTHERLY TERMINUS OF THE EASTERLY LINE OF THAT CERTAIN 60.00 FOOT WIDE EASEMENT FOR ROAD PURPOSES DESCRIBED IN PARCEL 1 IN DEED TO WILLIAM G. SIMMONS, JR., ET UX, RECORDED JULY 21, 1975 AS FILE NO. 75-188026; THENCE ALONG THE EASTERLY LINE OF SAID EASEMENT AS FOLLOWS: SOUTH 16°21′32″ WEST 359.64 FEET TO THE BEGINNING OF A TANGENT 1170.00 FOOT RADIUS CURVE CONCAVE EASTERLY; SOUTHERLY ALONG THE ARC OF SAID CURVE THROUGH A CENTRAL ANGLE OF 14°43′28″ A DISTANCE OF 300.68 FEET; SOUTH 01°38′04″ WEST, 1273.99 FEET TO THE BEGINNING OF A TANGENT 670.00 FOOT RADIUS CURVE CONCAVE NORTHEASTERLY; SOUTHEASTERLY ALONG THE ARC OF SAID CURVE THROUGH A CENTRAL ANGLE OF 30°11′36″ A DISTANCE OF 353.07 FEET; SOUTH 28°33′32″ EAST, 730.76 FEET TO THE BEGINNING OF A TANGENT 230.00 FOOT RADIUS CURVE CONCAVE WESTERLY; SOUTHERLY ALONG THE ARC OF SAID CURVE THROUGH A CENTRAL ANGLE OF 42°19′26″ A DISTANCE OF 169.90 FEET; SOUTH 13°45′54″ WEST, 401.05 FEET TO THE BEGINNING OF A TANGENT 270.00 FOOT RADIUS CURVE CONCAVE EASTERLY; SOUTHERLY ALONG THE ARC OF SAID CURVE THROUGH A CENTRAL ANGLE OF 29°02′37″ A DISTANCE OF 136.86 FEET; SOUTH 15°16′43″ EAST, 253.65 FEET TO THE BEGINNING OF A 330.00 FOOT RADIUS CURVE CONCAVE WESTERLY; SOUTHERLY ALONG THE ARC OF SAID CURVE THROUGH A CENTRAL ANGLE OF 34°04′00″ A DISTANCE OF 196.21 FEET; SOUTH 18°47′17″ WEST, 367.12 FEET TO THE BEGINNING OF A 270.00 FOOT RADIUS CURVE CONCAVE EASTERLY; SOUTHERLY ALONG THE ARC OF SAID CURVE THROUGH A CENTRAL ANGLE OF 45°00′00″ A DISTANCE OF 212.06 FEET; SOUTH 26°12′43″ EAST, 380.74 FEET TO THE BEGINNING OF A TANGENT 40.00 FOOT RADIUS CURVE CONCAVE NORTHEASTERLY WHICH IS ALSO TANGENT WITH THE NORTH LINE OF SAID STATE HIGHWAY 78; THENCE SOUTHERLY AND EASTERLY ALONG THE ARC OF SAID CURVE THROUGH A CENTRAL ANGLE OF 90°00′00″ A DISTANCE OF 62.83 FEET TO THE NORTH LINE OF SAID STATE HIGHWAY 78; THENCE SOUTH 26°12′43″ EAST, 30.00 FEET TO THE CENTER LINE OF SAID STATE HIGHWAY 78; THENCE ALONG SAID CENTER LINE NORTH 63°47′17″ EAST, 280.00 FEET TO THE TRUE POINT OF BEGINNING.

PARCEL C-2

AN EASEMENT FOR ROAD PURPOSES OVER AND ACROSS A STRIP OF LAND 60.00 FEET IN WIDTH LYING WITHIN THE EAST HALF OF SECTION 2, TOWNSHIP 13 SOUTH, RANGE 2 EAST, SAN BERNARDINO MERIDIAN, IN THE COUNTY OF SAN DIEGO, STATE OF CALIFORNIA, ACCORDING TO THE OFFICIAL PLAT THEREOF, THE CENTER LINE OF SAID 60.00 FOOT WIDE STRIP BEING DESCRIBED AS FOLLOWS:

COMMENCING AT ENGINEER'S STATION 500+56.06 B.C. ON THE CENTER LINE OF COUNTY HIGHWAY COMMISSION JULIAN ROAD 3-B (ALSO KNOWN AS STATE HIGHWAY 78) ACCORDING TO PLAT THEREOF ON FILE IN THE OFFICE OF THE COUNTY ENGINEER OF SAN DIEGO COUNTY; THENCE ALONG SAID CENTER LINE, SOUTH 63°47′17″ WEST (RECORD—SOUTH 63°26′00″ WEST), 363.88 FEET; THENCE NORTH 26°12′43″ WEST, 30.00 FEET TO THE TRUE POINT OF BEGINNING; THENCE NORTH 26°12′43″ WEST, 420.74 FEET TO THE BEGINNING OF A TANGENT 300.00 FOOT RADIUS CURVE, CONCAVE EASTERLY; THENCE NORTHERLY ALONG THE ARC OF SAID CURVE THROUGH A CENTRAL ANGLE OF 45°00′00″ A DISTANCE OF 235.62 FEET; THENCE TANGENT TO SAID CURVE NORTH 18°47′17″ EAST, 367.12 FEET TO THE BEGINNING OF A TANGENT 300.00 FOOT RADIUS CURVE CONCAVE WESTERLY; THENCE NORTHERLY ALONG THE ARC OF SAID CURVE THROUGH A CENTRAL ANGLE OF 34°04′00″ A DISTANCE OF 178.37 FEET; THENCE TANGENT TO SAID CURVE NORTH 15°16′43″ WEST, 253.65 FEET TO THE BEGINNING OF A TANGENT 300.00 FOOT RADIUS CURVE, CONCAVE EASTERLY; THENCE NORTHERLY ALONG THE ARC OF SAID CURVE THROUGH A CENTRAL ANGLE OF 29°02′37″ A DISTANCE OF 152.07 FEET; THENCE TANGENT TO SAID CURVE NORTH 13°45′54″ EAST, 401.05 FEET TO THE BEGINNING OF A TANGENT 200.00 FOOT RADIUS CURVE, CONCAVE WESTERLY; THENCE NORTHERLY ALONG THE ARC OF SAID CURVE THROUGH A CENTRAL ANGLE OF 42°19′26″ A DISTANCE OF 147.74 FEET; THENCE TANGENT TO SAID CURVE NORTH 28°33′32″ WEST, 730.76 FEET TO THE BEGINNING OF A TANGENT 700.00 FOOT RADIUS CURVE, CONCAVE EASTERLY; THENCE NORTHERLY ALONG THE ARC OF SAID CURVE THROUGH A CENTRAL ANGLE OF 30°11′36″ A DISTANCE OF 368.88 FEET TO A LINE DRAWN PARALLEL WITH AND 30.00 FEET EASTERLY FROM THE EAST LINE OF THE NORTHWEST QUARTER OF SAID SECTION 2; THENCE ALONG SAID PARALLEL LINE NORTH 01°38′04″ EAST, 1273.99 FEET TO THE BEGINNING OF A TANGENT 1200.00 FOOT RADIUS CURVE, CONCAVE SOUTHEASTERLY; THENCE NORTHERLY ALONG THE ARC OF SAID CURVE THROUGH A CENTRAL ANGLE OF 14°43′28″ A DISTANCE OF 308.39 FEET; THENCE TANGENT TO SAID CURVE NORTH 16°21′32″ EAST, 351.00 FEET TO A POINT ON THE NORTH LINE OF SAID SECTION 2 DISTANT THEREON SOUTH 89°42′32″ EAST, 158.66 FEET FROM THE NORTH QUARTER CORNER OF SAID SECTION 2. THE SIDELINES OF SAID 60.00 FOOT STRIP TO BE PROLONGED OR SHORTENED SO AS TO TERMINATE IN THE NORTH LINE OF SAID SECTION 2.

PARCEL C-3

AN EASEMENT FOR ROAD PURPOSES OVER AND ACROSS THAT PORTION OF THE SOUTHWEST QUARTER OF THE SOUTHEAST QUARTER OF SECTION 2, TOWNSHIP 13 SOUTH, RANGE 2 EAST, SAN BERNARDINO MERIDIAN, IN THE COUNTY OF SAN DIEGO, STATE OF CALIFORNIA, ACCORDING TO THE OFFICIAL PLAT THEREOF, WHICH LIES EASTERLY OF THE HEREIN ABOVE DESCRIBED PARCEL 2, NORTHERLY OF SAID STATE HIGHWAY 78 AND SOUTHERLY OF THE ARC OF A 40.00 FOOT RADIUS CURVE WHICH IS TANGENT TO THE EASTERLY LINE OF SAID PARCEL 2 AND SAID NORTHERLY LINE OF SAID STATE HIGHWAY 78.

PARCEL C-4

AN EASEMENT FOR ROAD PURPOSES OVER AND ACROSS THAT PORTION OF THE SOUTHWEST QUARTER OF THE SOUTHEAST QUARTER OF SECTION 2, TOWNSHIP 13 SOUTH, RANGE 2 EAST, SAN BERNARDINO MERIDIAN, IN THE COUNTY OF SAN DIEGO, STATE OF CALIFORNIA, ACCORDING TO THE OFFICIAL PLAT THEREOF, WHICH LIES WESTERLY OF THE HEREINABOVE DESCRIBED PARCEL 2, NORTHERLY OF SAID STATE HIGHWAY 78 AND SOUTHERLY OF THE ARC OF A 40.00 FOOT RADIUS CURVE WHICH IS TANGENT TO THE WESTERLY LINE OF SAID PARCEL 2 AND SAID NORTHERLY LINE OF SAID STATE HIGHWAY 78.

PARCEL C-5

AN EASEMENT FOR ROAD PURPOSES OVER AND ACROSS A STRIP OF LAND 60.00 FEET IN WIDTH LYING WITHIN SECTION 35, TOWNSHIP 12 SOUTH, RANGE 2 EAST, SAN BERNARDINO MERIDIAN, IN THE COUNTY OF SAN DIEGO, STATE OF CALIFORNIA, ACCORDING TO THE OFFICIAL PLAT THEREOF, THE EASTERLY LINE OF SAID STRIP OF LAND BEING DESCRIBED AS FOLLOWS:

BEGINNING AT A POINT ON THE SOUTHERLY LINE OF SAID SECTION 35 THEREON NORTH 89°42′32″ WEST 63.93 FEET FROM THE SOUTH QUARTER CORNER OF SAID SECTION 35, SAID POINT BEING THE NORTHERLY TERMINUS OF THE CENTER LINE OF THE HEREINABOVE DESCRIBED PARCEL 2; THENCE NORTH 16°21′32″ EAST, 235.04 FEET TO A POINT ON THE WESTERLY LINE OF THE SOUTHEAST QUARTER OF SAID SECTION 35, SAID POINT BEING POINT “A” AS DESIGNATED IN THE HEREINABOVE DESCRIBED PARCEL 1; THENCE ALONG THE WESTERLY BOUNDARY OF THE HEREINABOVE DESCRIBED PARCEL 1 AS FOLLOWS: NORTH 16°21′32″ EAST, 161.87 FEET TO THE BEGINNING OF A TANGENT 980.00 FOOT RADIUS CURVE CONCAVE WESTERLY; NORTHERLY ALONG THE ARC OF SAID CURVE THROUGH A CENTRAL ANGLE OF 38°33′05″ A DISTANCE OF 659.39 FEET TO THE BEGINNING OF A REVERSE 30.00 FOOT RADIUS CURVE CONCAVE EASTERLY A RADIAL LINE OF WHICH BEARS SOUTH 67°48′27″ WEST TO SAID POINT; NORTHERLY ALONG THE ARC OF SAID CURVE THROUGH A CENTRAL ANGLE OF 85°57′08″ A DISTANCE OF 45.00 FEET TO THE BEGINNING OF A REVERSE 230.00 FOOT RADIUS CURVE CONCAVE NORTHWESTERLY A RADIAL LINE OF WHICH BEARS SOUTH 26°14′25″ EAST TO SAID POINT; NORTHERLY ALONG THE ARC OF SAID CURVE THROUGH A CENTRAL ANGLE OF 53°48′06″ A DISTANCE OF 215.97 FEET; NORTH 09°57′29″ EAST, 1608.66 FEET TO THE BEGINNING OF A TANGENT 1530.00 FOOT RADIUS CURVE CONCAVE WESTERLY; AND NORTHERLY ALONG THE ARC OF SAID CURVE THROUGH A CENTRAL ANGLE OF 09°21′43″ A DISTANCE OF 250.00 FEET TO THE NORTHWEST CORNER OF THE HEREINABOVE DESCRIBED PARCEL 1. THE SIDELINES OF SAID 60.00 FOOT STRIP TO BE PROLONGED OR SHORTENED SO AS TO TERMINATE SOUTHERLY IN THE SOUTHERLY LINE OF SAID SECTION 35.

Authority: This notice is published in the exercise of authority delegated by the Secretary of the Interior to the Assistant Secretary—Indian Affairs by 209 Departmental Manual 8.1 and is published to comply with the requirements of 25 CFR 151.12 (c)(2)(ii) that notice of the decision to acquire land in trust be promptly provided in the Federal Register.

Wizipan Garriott,
Principal Deputy Assistant Secretary—Indian Affairs, Exercising by delegation the authority of the Assistant Secretary—Indian Affairs.

[FR Doc. 2024-19926 Filed 9-4-24; 8:45 am]

BILLING CODE 4337-15-P